DEPARTMENT OF TRANSPORTATION

Federal Aviation Administration

14 CFR Part 39

[Docket No. FAA-2009-0982; Directorate Identifier 2009-NE-19-AD; Amendment 39-16323; AD 2010-12-02]

RIN 2120-AA64

Airworthiness Directives; Turbomeca S.A. MAKILA 1A and 1A1 Turboshaft Engines

AGENCY: Federal Aviation Administration (FAA), DOT.

ACTION: Final rule.

SUMMARY: We are adopting a new airworthiness directive (AD) for the products listed above. This AD results from mandatory continuing airworthiness information (MCAI) issued by an aviation authority of another country to identify and correct an unsafe condition on an aviation product. The MCAI describes the unsafe condition as:

The installation of TU250 comparator/selector (CS) boards, however, has resulted in a few occurrences of erratic engine behaviour, in the form of unexpected N1 variations and/or illumination of the “GOV” warning light. The conclusions from an investigation by Turboméca are that these malfunctions are due to a lapse of quality control in the varnishing process applied to the boards, and that only boards in a specific serial number range, as defined under “Applicability” and referred to below as the “suspect batch”, are affected.

We are issuing this AD to prevent loss of automatic engine control during flight due to an uncommanded engine roll-back, which could result in the inability to continue safe flight.

DATES: This AD becomes effective July 13, 2010. The Director of the Federal Register approved the incorporation by reference of certain publications listed in this AD as of July 13, 2010.

ADDRESSES: The Docket Operations office is located at Docket Management Facility, U.S. Department of Transportation, 1200 New Jersey Avenue, SE., West Building Ground Floor, Room W12-140, Washington, DC 20590-0001.

FOR FURTHER INFORMATION CONTACT: Kevin Dickert, Aerospace Engineer, Engine Certification Office, FAA, Engine and Propeller Directorate, 12 New England Executive Park, Burlington, MA 01803; e-mail: kevin.dickert@faa.gov; telephone (781) 238-7117, fax (781) 238-7199.

SUPPLEMENTARY INFORMATION:

Discussion

We issued a notice of proposed rulemaking (NPRM) to amend 14 CFR part 39 to include an AD that would apply to the specified products. That NPRM was published in the Federal Register on March 31, 2010 (75 FR 16022). That NPRM proposed to correct an unsafe condition for the specified products. The MCAI states that:

The installation of TU250 CS boards, however, has resulted in a few occurrences of erratic engine behaviour, in the form of unexpected N1 variations and/or illumination of the “GOV” warning light. The conclusions from an investigation by Turbomeca are that these malfunctions are due to a lapse of quality control in the varnishing process applied to the boards, and that only boards in a specific serial number range, as defined under “Applicability” and referred to below as the “suspect batch”, are affected.

Comments

We gave the public the opportunity to participate in developing this AD. We received no comments on the NPRM or on the determination of the cost to the public.

Conclusion

We reviewed the available data and determined that air safety and the public interest require adopting the AD as proposed.

Costs of Compliance

Based on the service information, we estimate that this AD will affect about 10 products of U.S. registry. We also estimate that it will take about 1 work-hour per product to comply with this AD. The average labor rate is $85 per work-hour. Required parts will cost about $3,500 per product. Based on these figures, we estimate the cost of the AD on U.S. operators to be $35,850.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone (800) 647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-12-02 Turbomeca S.A.: Amendment 39-16323. Docket No. FAA-2009-0982; Directorate Identifier 2009-NE-19-AD.

Effective Date

(a) This airworthiness directive (AD) becomes effective July 13, 2010.

Affected ADs

(b) None.

Applicability

(c) This AD applies to Turbomeca S.A. Makila 1A and 1A1 turboshaft engines with a comparator/selector (CS) board, part number (P/N) 0 177 99 716 0, and a serial number (S/N) between 241EL and 1192EL (inclusive) installed. These engines are installed on, but not limited to, Eurocopter AS 332 C, AS 332 C1, AS 332 L, and AS 332 L1 helicopters.

Reason

(d) The European Aviation Safety Agency (EASA) AD 2009-0090, dated April 28, 2009, states that this AD results from the following:

(1) The installation of TU250 CS boards, however, has resulted in a few occurrences of erratic engine behaviour, in the form of unexpected N1 variations and/or illumination of the “GOV” warning light. The conclusions from an investigation by Turboméca are that these malfunctions are due to a lapse of quality control in the varnishing process applied to the boards, and that only boards in a specific serial number range, as defined under “Applicability” and referred to below as the “suspect batch”, are affected.

(2) We are issuing this AD to prevent loss of automatic engine control during flight due to an uncommanded engine roll-back, which could result in the inability to continue safe flight.

Actions and Compliance

(e) Unless already done, do the following actions.

(1) Within 50 operating hours from the effective date of this AD, replace any CS board, P/N 0 177 99 716 0, with a S/N from 241EL to 1192EL (inclusive), that has fewer than 200 hours-since-new (HSN). Use paragraph 2 of Turbomeca S.A. Mandatory Service Bulletin (MSB) No. 298 73 0809 Version A, dated February 12, 2008, to replace the boards.

(2) During the next 500-hour inspection, replace any CS board, P/N 0 177 99 716 0, with a S/N from 241EL to 1192EL (inclusive), that has 200 HSN or more. Use paragraph 2 of Turbomeca S.A. MSB No. 298 73 0810 Version B, dated April 27, 2009, to replace the boards.

FAA AD Differences

(f) This AD differs from the Mandatory Continuing Airworthiness Information (MCAI) and/or service information as follows:

(1) This AD requires replacing within 50 operating hours after the effective date of this AD, all comparator/selector boards, P/N 0 177 99 716 0, with an S/N from 241EL to 1192EL (inclusive) that have fewer than 200 HSN.

(2) This AD requires replacing at the next 500-hour routine inspection after the effective date of this AD, all comparator/selector boards, P/N 0 177 99 716 0, with a S/N from 241EL to 1192EL (inclusive) that have 200 HSN or more.

Alternative Methods of Compliance (AMOCS)

(g) The Manager, Engine Certification Office, FAA, has the authority to approve AMOCs for this AD, if requested using the procedures found in 14 CFR 39.19.

Related Information

(h) Refer to MCAI EASA Airworthiness Directive 2009-0090, dated April 28, 2009, for related information.

(i) Contact Kevin Dickert, Aerospace Engineer, Engine Certification Office, FAA, Engine and Propeller Directorate, 12 New England Executive Park, Burlington, MA 01803; e-mail: kevin.dickert@faa.gov; telephone (781) 238-7117, fax (781) 238-7199, for more information about this AD.

Material Incorporated by Reference

(j) You must use the service information specified in Table 1 of this AD to do the actions required by this AD, unless the AD specifies otherwise.

(1) The Director of the Federal Register approved the incorporation by reference of this service information under 5 U.S.C. 552(a) and 1 CFR part 51.

(2) For service information identified in this AD, contact Turbomeca, 40220 Tarnos, France; telephone 33 05 59 74 40 00; fax 33 05 59 74 45 15.

(3) You may review copies at the FAA, New England Region, 12 New England Executive Park, Burlington, MA; or at the National Archives and Records Administration (NARA). For information on the availability of this material at NARA, call (202) 741-6030, or go to: http://www.archives.gov/federal-register/cfr/ibr-locations.html.

Table 1—Material Incorporated by Reference
Turbomeca mandatory Service Bulletin No. | Page | Version | Date
298 73 0809
Total Pages: 7 | ALL | A | February 12, 2008.
298 73 0810
Total Pages: 7 | ALL | B | April 27, 2009.

Issued in Burlington, Massachusetts, on May 24, 2010.
Peter A. White,
Assistant Manager, Engine and Propeller Directorate, Aircraft Certification Service.

[FR Doc. 2010-13433 Filed 6-7-10; 8:45 am]

BILLING CODE 4910-13-P